DEPARTMENT OF ENERGY

Federal Energy Regulatory Commission

Combined Notice of Filings #1

Take notice that the Commission received the following electric corporate filings:

Docket Numbers: EC23-93-000.

Applicants: Portland General Electric Company, Clearwater Wind East, LLC.

Description: Joint Application for Authorization Under Section 203 of the Federal Power Act of Portland General Electric Company.

Filed Date: 5/31/23.

Accession Number: 20230531-5429.

Comment Date: 5 p.m. ET 7/31/23.

Docket Numbers: EC23-94-000.

Applicants: Robison Energy, LLC.

Description: Application for Authorization Under Section 203 of the Federal Power Act of Robison Energy, LLC.

Filed Date: 6/6/23.

Accession Number: 20230606-5227.

Comment Date: 5 p.m. ET 6/27/23.

Take notice that the Commission received the following exempt wholesale generator filings:

Docket Numbers: EG23-178-000.

Applicants: Trinity River Solar 1, LLC.

Description: Trinity River Solar 1, LLC submits Notice of Self-Certification of Exempt Wholesale Generator Status.

Filed Date: 6/6/23.

Accession Number: 20230606-5205.

Comment Date: 5 p.m. ET 6/27/23.

Docket Numbers: EG23-179-000.

Applicants: Champion Solar 1, LLC.

Description: Champion Solar 1, LLC submits Notice of Self-Certification of Exempt Wholesale Generator Status.

Filed Date: 6/6/23.

Accession Number: 20230606-5207.

Comment Date: 5 p.m. ET 6/27/23.

Docket Numbers: EG23-180-000.

Applicants: Crossvine Solar 1, LLC.

Description: Crossvine Solar 1, LLC submits Notice of Self-Certification of Exempt Wholesale Generator Status.

Filed Date: 6/6/23.

Accession Number: 20230606-5210.

Comment Date: 5 p.m. ET 6/27/23.

Docket Numbers: EG23-181-000.

Applicants: Granite Hill Solar, LLC.

Description: Granite Hill Solar, LLC submits Notice of Self-Certification of Exempt Wholesale Generator Status.

Filed Date: 6/6/23.

Accession Number: 20230606-5213.

Comment Date: 5 p.m. ET 6/27/23.

Docket Numbers: EG23-182-000.

Applicants: Jones City Solar, LLC.

Description: Jones City Solar, LLC submits Notice of Self-Certification of Exempt Wholesale Generator Status.

Filed Date: 6/6/23.

Accession Number: 20230606-5214.

Comment Date: 5 p.m. ET 6/27/23.

Docket Numbers: EG23-183-000.

Applicants: Mayapple Solar, LLC.

Description: Mayapple Solar, LLC submits Notice of Self-Certification of Exempt Wholesale Generator Status.

Filed Date: 6/6/23.

Accession Number: 20230606-5215.

Comment Date: 5 p.m. ET 6/27/23.

Docket Numbers: EG23-184-000.

Applicants: Mountain Daisy Solar, LLC.

Description: Mountain Daisy Solar, LLC submits Notice of Self-Certification of Exempt Wholesale Generator Status.

Filed Date: 6/6/23.

Accession Number: 20230606-5216.

Comment Date: 5 p.m. ET 6/27/23.

Docket Numbers: EG23-185-000.

Applicants: Mowata Solar, LLC.

Description: Mowata Solar, LLC submits Notice of Self-Certification of Exempt Wholesale Generator Status.

Filed Date: 6/6/23.

Accession Number: 20230606-5217.

Comment Date: 5 p.m. ET 6/27/23.

Take notice that the Commission received the following electric rate filings:

Docket Numbers: ER23-625-002.

Applicants: System Energy Resources, Inc.

Description: Compliance filing: SERI UPSA AFUDC Compliance (ER23-625) to be effective 1/1/2023.

Filed Date: 6/7/23.

Accession Number: 20230607-5132.

Comment Date: 5 p.m. ET 6/28/23.

Docket Numbers: ER23-1279-000.

Applicants: DTE Energy Services, Inc.

Description: Report Filing: DTE Energy Services Supplemental Filing to be effective N/A.

Filed Date: 6/7/23.

Accession Number: 20230607-5127.

Comment Date: 5 p.m. ET 6/28/23.

Docket Numbers: ER23-2085-000.

Applicants: Versant Power.

Description: § 205(d) Rate Filing: Changes to Depreciation Rates in MPD OATT Formula Rate to be effective 6/1/2024.

Filed Date: 6/7/23.

Accession Number: 20230607-5021.

Comment Date: 5 p.m. ET 6/28/23.

Docket Numbers: ER23-2086-000; TS23-6-000.

Applicants: White Rock Wind West, LLC, White Rock Wind West, LLC.

Description: Request for Temporary Tariff Waiver, et al. of White Rock Wind West, LLC.

Filed Date: 6/7/23.

Accession Number: 20230607-5027.

Comment Date: 5 p.m. ET 6/28/23.

Docket Numbers: ER23-2087-000.

Applicants: Midcontinent Independent System Operator, Inc., Ameren Services Company.

Description: § 205(d) Rate Filing: Midcontinent Independent System Operator, Inc. submits tariff filing per 35.13(a)(2)(iii: 2023-06-07_SA 2880 Att A Proj Spec No. 11-WVPA-Mineral Switching Station to be effective 8/7/2023.

Filed Date: 6/7/23.

Accession Number: 20230607-5034.

Comment Date: 5 p.m. ET 6/28/23.

Docket Numbers: ER23-2088-000.

Applicants: Midcontinent Independent System Operator, Inc.

Description: § 205(d) Rate Filing: 2023-06-07_SA 4071 Duke Energy-Lowland Solar Park GIA (J1390) to be effective 8/7/2023.

Filed Date: 6/7/23.

Accession Number: 20230607-5037.

Comment Date: 5 p.m. ET 6/28/23.

Docket Numbers: ER23-2090-000.

Applicants: Southwest Power Pool, Inc.

Description: § 205(d) Rate Filing: Attachment AF Tariff Records Modification to be effective 8/7/2023.

Filed Date: 6/7/23.

Accession Number: 20230607-5062.

Comment Date: 5 p.m. ET 6/28/23.

Docket Numbers: ER23-2091-000.

Applicants: Goleta Energy Storage, LLC.

Description: Baseline eTariff Filing: Market-Based Rate Application to be effective 6/8/2023.

Filed Date: 6/7/23.

Accession Number: 20230607-5106.

Comment Date: 5 p.m. ET 6/28/23.

Docket Numbers: ER23-2092-000.

Applicants: RE Gaskell West 2 LLC.

Description: Initial rate filing: RE Gaskell West 2 Amended LGIA Co-Tenancy Agreement to be effective 6/8/2023.

Filed Date: 6/7/23.

Accession Number: 20230607-5148.

Comment Date: 5 p.m. ET 6/28/23.

Docket Numbers: ER23-2093-000.

Applicants: RE Gaskell West LLC.

Description: Tariff Amendment: RE Gaskell West LLC Cancellation of CTA to be effective 6/8/2023.

Filed Date: 6/7/23.

Accession Number: 20230607-5158.

Comment Date: 5 p.m. ET 6/28/23.

Take notice that the Commission received the following qualifying facility filings:

Docket Numbers: QF23-284-000.

Applicants: WED Coventry Five, LLC.

Description: Revised Refund Report of WED Coventry Five, LLC.

Filed Date: 6/7/23.

Accession Number: 20230607-5118.

Comment Date: 5 p.m. ET 6/28/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 7, 2023.
Debbie-Anne A. Reese,
Deputy Secretary.

[FR Doc. 2023-12628 Filed 6-12-23; 8:45 am]

BILLING CODE 6717-01-P